DEPARTMENT OF HOUSING AND URBAN DEVELOPMENT

[Docket No. FR-6079-D-01]

Designations of Chief Acquisition Officer and Senior Procurement Executive

AGENCY: Office of the Deputy Secretary, HUD.

ACTION: Notice of designations.

SUMMARY: The Department of Housing and Urban Development Act, as amended, authorizes the Secretary to delegate functions, powers, and duties as the Secretary deems necessary. In this notice, the Deputy Secretary of HUD designates the Assistant Secretary for Administration as the Chief Acquisition Officer and designates the Chief Procurement Officer as the Senior Procurement Executive.

DATES: January 5, 2018.

FOR FURTHER INFORMATION CONTACT: Office of the Chief Procurement Officer, Department of Housing and Urban Development, 451 7th Street SW, Room 5276, Washington, DC 20410-3000; telephone number 202- 708-0294 (this is not a toll-free number). Persons with hearing or speech impairments may access this number through TTY by calling the toll-free Federal Relay Service at 800-877- 8339.

SUPPLEMENTARY INFORMATION: This notice includes the Department's designations of the Chief Acquisition Officer and Senior Procurement Executive. Previously, the designations were set forth in a Federal Register notice published on July 30, 2013 (78 FR 46240). Accordingly, the Secretary hereby revokes the July 30, 2013, designations and designates as follows:

Section A. Designation of Chief Acquisition Officer

1. The Assistant Secretary for Administration is designated to serve as the Department's Chief Acquisition Officer. Functions of the Chief Acquisition Officer are outlined at 41 U.S.C. 414. If the Assistant Secretary for Administration position is vacant, the Senior Procurement Executive will perform all the duties and functions of the Chief Acquisition Officer.

2. The authority of the Chief Acquisition Officer includes the authority to delegate any of the duties and functions of the Chief Acquisition Officer to the Senior Procurement Executive. On July 30, 2013 (78 FR 46240), the Deputy Secretary delegated to the Senior Procurement Executive certain authority to perform the functions of the Chief Acquisition Officer. The July 30, 2013, delegation of authority is affirmed by this notice, with the exception of any references to the Deputy Secretary as Chief Acquisition Officer. Any functions not delegated to the Senior Procurement Executive remain with the Chief Acquisition Officer.

Section B. Designation of Senior Procurement Executive

1. The Chief Procurement Officer is designated as the Department's Senior Procurement Executive.

2. The Senior Procurement Executive shall report directly to the Assistant Secretary for Administration, who has been designated as the Chief Acquisition Officer, without intervening authority, for all procurement-related matters.

3. The authority of the Senior Procurement Executive includes the authority to redelegate the duties and functions of the Senior Procurement Executive.

Section C. Authority Superseded

This designation revokes all previous designations concerning the Chief Acquisition Officer and Senior Procurement Executive, including the designations notice published in the Federal Register on July 30, 2013 (78 FR 46240). As noted herein, the July 30, 2013 (78 FR 46240), delegation of authority to the Senior Procurement Executive is affirmed by this notice, with the exception of any references to the Deputy Secretary as Chief Acquisition Officer.

Authority: 41 U.S.C. 414; section 7(d) of the Department of Housing and Urban Development Act (42 U.S.C. 3535(d)).

Dated: January 5, 2018.
Pamela H. Patenaude,
Deputy Secretary.

[FR Doc. 2018-01501 Filed 1-25-18; 8:45 am]

BILLING CODE 4210-67-P